ENVIRONMENTAL PROTECTION AGENCY

[FRL-7908-7; E-Docket ID No. ORD-2005-0016]

External Review Draft, The Inventory of Sources and Environmental Releases of Dioxin-Like Compounds in the U.S.: the Year 2000 Update, March 2005 (EPA/600/P-03/002A)

AGENCY: Environmental Protection Agency (EPA).

ACTION: Notice of Public Comment Period.

SUMMARY: EPA is announcing a 60-day public comment period for the external review draft document titled, The Inventory of Sources and Environmental Releases of Dioxin-Like Compounds in the U.S.: the Year 2000 Update, March 2005 (EPA/600/P-03/002A) (Draft Dioxin Inventory Update). The document was prepared by the EPA's National Center for Environmental Assessment within the Office of Research and Development. EPA will consider the public comment submissions in revising the document. An independent, external, peer-review panel will review the document at a workshop in the future. That workshop will be announced in a subsequent Federal Register notice.

DATES: The 60-day public comment period begins May 6, 2005, and ends July 5, 2005. Technical comments should be in writing and must be received by July 5, 2005.

ADDRESSES: The Draft Dioxin Inventory Update is available primarily via the Internet on the National Center for Environmental Assessment's home page at http://www.epa.gov/ncea under the Recent Additions and Data and Publications menus. A limited number of CDs and paper copies are available from the Technical Information Staff, NCEA-W; telephone: (202) 564-3261; facsimile: (202) 565-0050. If you are requesting a CD or paper copy, please provide your name, your mailing address, and the document title, The Inventory of Sources and Environmental Releases of Dioxin-Like Compounds in the U.S.: the Year 2000 Update, March 2005 (EPA/600/P-03/002A).

Comments may be submitted electronically, by mail, by facsimile, or by hand delivery/courier. Please follow the detailed instructions as provided in the SUPPLEMENTARY INFORMATION section.

FOR FURTHER INFORMATION CONTACT: For information on the public comment period, contact the Office of Environmental Information Docket; telephone: (202) 566-1752; facsimile: (202) 566-1753; or e-mail: ORD.Docket@epa.gov.

For technical information, contact David Cleverly, National Center for Environmental Assessment (8623N), U.S. EPA, 1200 Pennsylvania Avenue, NW., Washington, DC 20460; telephone: (202) 564-3238; facsimile: (202) 565-2018; or e-mail: cleverly.david@epa.gov.

SUPPLEMENTARY INFORMATION:

About the Document

The purpose of the Draft Dioxin Inventory Update is to present an inventory of sources and environmental releases of dioxin-like compounds in the United States. This Draft is associated with three distinct reference years: 1987, 1995, and 2000. The presentation of information in this manner permits the ranking of sources by magnitude of annual release and allows for the evaluation of environmental trends over time.

The term “dioxin-like” includes congeners (chemical compounds) of polychlorinated dibenzo-p-dioxins (CDDs), polychlorinated dibenzofurans (CDFs) having chlorine atoms in the 2,3,7,8 positions on the molecule, and certain coplanar-substituted polychlorinated biphenyls (PCBs). “Dioxin-like” refers to the fact that these compounds have similar chemical structure and physical-chemical properties and invoke a common battery of toxic responses. Because of their hydrophobic nature and resistance towards metabolism, these chemicals persist and bioaccumulate in fatty tissues of animals and humans. Consequently, the principal route of chronic population exposure is through the dietary consumption of animal fats, fish, shellfish, and dairy products. Dioxin-like compounds are persistent in soils and sediments, with environmental half-lives ranging from years to several decades.

The Draft Dioxin Inventory Update is an update of a previous external review draft report entitled, The Inventory of Sources of Dioxin in the United States (EPA/600/P-98/002Aa), dated April 1998. The 1998 draft inventory presented annual estimates of environmental releases for reference years 1987 and 1995. A meeting of scientific and engineering experts was convened June 3-4, 1998, to review the scientific soundness of EPA's dioxin inventory. Overall, the reviewers found the inventory report to be comprehensive and well documented and the “emission factor approach” that was used to develop the inventory to be scientifically defensible. The review committee recommended that EPA (a) take a less conservative approach for including data on emissions of dioxin-like compounds from sources, especially data from foreign countries and those found in the nonpayer-reviewed literature; (b) adopt a qualitative ranking system that clearly indicates the relative amount of uncertainty behind the calculations of annual releases of dioxin-like compounds; (c) present the inventory of sources and environmental releases specific to the reference years, because technologies and emissions of dioxin from sources changes over time; and (d) present the dioxin inventory as a summary table of sources and estimated annual releases, including quantifiable as well as poorly understood sources. The Draft Dioxin Inventory Update reflects comments made by the review committee and also represents an update with the inclusion of a third reference year, 2000.

One of the preliminary conclusions in the Draft Dioxin Inventory Update is that, between 1987 and 2000, there was an approximately 89% reduction in the release of dioxin-like compounds to the circulating environment of the United States from all known sources combined. Annual emission estimates (TEQDF−WHO98) of releases of CDDs/CDFs to air, water, and land from reasonably quantifiable sources are approximately 1,529 g in reference year 2000; 3,280 g in reference year 1995; and 13,962 g in reference year 1987. In 1987 and 1995, the leading sources of dioxin emissions to the U.S. environment were municipal waste combustors. The inventory also identifies bleached chlorine pulp and paper mills as a significant source of dioxin to the aquatic environment in 1987 but a minor source in 1995 and 2000. The Draft concludes that the major source of dioxin in 2000 was the uncontrolled burning of refuse in backyard burn barrels in rural areas of the United States.

The reduction in environmental releases of dioxin-like compounds from 1987 to 2000 is attributable to source-specific regulations, improvements in source technology, advancements in the pollution control technologies specific to controlling dioxin discharges and releases, and the voluntary actions of U.S. industries to reduce or prevent dioxin releases.

How to Submit Comments to EPA's E-Docket

EPA has established an official public docket for information pertaining to the revision of the Draft Dioxin Inventory Update, Docket ID No. ORD-2005-0016. The official public docket is the collection of materials, excluding Confidential Business Information (CBI) or other information whose disclosure is restricted by statute, that is available for public viewing at the Office of Environmental Information (OEI) Docket in the Headquarters EPA Docket Center, EPA West Building, Room B102, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752; facsimile: (202) 566-1753; or e-mail: ORD.Docket@epa.gov.

An electronic version of the official public docket is available through EPA's electronic public docket and comment system, E-Docket. You may use E-Docket at http://www.epa.gov/edocket/ to submit or view public comments, to access the index listing of the contents of the official public docket, and to view those documents in the public docket that are available electronically. Once in the system, select “search,” then key in the appropriate docket identification number.

Certain types of information will not be placed in E-Docket. Information claimed as CBI and other information with disclosure restricted by statute, which is not included in the official public docket, also will not be available for public viewing in E-Docket. Copyrighted material will not be placed in E-Docket, but will be referenced there and available as printed material in the official public docket.

For people submitting public comments, please note that EPA's policy makes that information available for public viewing as received at the EPA Docket Center or in E-Docket. This policy applies to information submitted electronically or in paper form, except where restricted by copyright, CBI, or statute. When EPA identifies a comment containing copyrighted material, EPA will provide a reference to that material in the version of the comment placed in EPA's electronic public docket; the entire printed comment, including the copyrighted material, will be available in the public docket.

Public comments submitted on computer disks that are mailed or delivered to the docket will be transferred to E-Docket. Physical objects will be photographed, where practical, and the photograph will be placed in E-Docket along with a brief description written by the docket staff.

You may submit comments electronically, by mail, by facsimile, or by hand delivery/courier. To ensure proper receipt by EPA, include the appropriate docket identification number with your submission. Please adhere to the specified submitting period; public comments received or submitted past the closing date will be marked “late” and may only be considered if time permits.

If you submit public comments electronically, EPA recommends that you include your name, mailing address, and an e-mail address or other contact information in the body of your comment. Also include these contact details on the outside of any submitted disk or CD-ROM, and in any cover letter accompanying the disk or CD-ROM. This ensures that you can be identified as the person submitting the public comments and allows EPA to contact you in case the Agency cannot read your submission due to technical difficulties, or needs further information on the substance of your comment. EPA will not edit your comment, and any identifying or contact information provided in the body of the comment will be included as part of the comment placed in the official public docket and made available in E-Docket. If EPA cannot read what you submit due to technical difficulties and cannot contact you for clarification, it may delay or prohibit EPA's consideration of your comments.

Electronic submission of comments via E-Docket is the preferred method for receiving comments. To access EPA's electronic public docket from the EPA Internet Home Page, select “Information Sources,” “Dockets,” and “EPA Dockets.” Once in the system, select “search,” and key in Docket ID No. ORD-2005-0016. The system is an “anonymous access” system, which means EPA will not know your identity, e-mail address, or other contact details unless you provide it in the body of your comment.

Comments may be sent by electronic mail (e-mail) to ORD.Docket@epa.gov, Attention Docket ID No. ORD-2005-0016. In contrast to EPA's electronic public docket, EPA's e-mail system is not an “anonymous access” system. If you send an e-mail directly to the docket without going through EPA's E-Docket, EPA's e-mail system automatically captures your e-mail address, and it becomes part of the information in the official public docket and is made available in E-Docket.

You may submit comments on a disk or CD-ROM mailed to the OEI Docket mailing address. Files will be accepted in WordPerfect, Word, or PDF file format. Avoid the use of special characters and any form of encryption.

If you provide comments in writing, please submit one unbound original with pages numbered consecutively, and three copies. For attachments, provide an index, number pages consecutively with the main text, and submit an unbound original and three copies.

Dated: May 2, 2005.
George W. Alapas,
Acting Director, National Center for Environmental Assessment.

[FR Doc. 05-9081 Filed 5-5-05; 8:45 am]

BILLING CODE 6560-50-P